DEPARTMENT OF HEALTH AND HUMAN SERVICES

Statement of Organization, Functions, and Delegations of Authority

AGENCY: Office of the Assistant Secretary for Health, Office of Disease Prevention and Health Promotion, HHS.

ACTION: Notice.

SUMMARY: The Office of the Assistant Secretary for Health, Office of Disease Prevention and Health Promotion organization has modified its organizational structure.

DATES: This new organizational structure was approved by the Secretary of Health and Human Services and takes effect on April 6, 2019.

FOR FURTHER INFORMATION CONTACT: Tara Broido, Acting Director, Office of Communications, Office of the Assistant Secretary for Health, 200 Independence Ave. SW, Room 715-G, Washington, DC 20201 Phone 202.690.7694.

SUPPLEMENTARY INFORMATION: Part A (Office of the Secretary, U.S. Department of Health and Human Services) of the Statement of Organization, Functions, and Delegations of Authority of the Department of Health and Human Services (60 FR 27804, dated October 31, 1995, and corrected at 75 FR 53304, August 31, 2010, and amended most recently at 82 FR 3005, dated January 5, 2017) is amended to reflect the reorganization of the Office of Disease Prevention and Health Promotion (ODPHP) to merge the President's Council on Sports, Fitness and Nutrition (PCSFN), Office of the Assistant Secretary for Health (OASH) activities to be managed under the Office of Disease Prevention and Health Promotion. This reorganization is being undertaken to create a more effective structure that better reflects the two offices' missions and streamlines the office's operations.

Under Part C, Section C-L, add the current reference: The Office of Disease Prevention and Health Promotion (ODPHP) is headed by the Director, will comprise of the following: The Office of Disease Prevention and Health Promotion and the Office of the President's Council on Sports, Fitness, and Nutrition (PCSFN). The ODPHP will be responsible for managing the activities of ODPHP and will manage the PCSFN, to be headed by the Executive Director of the PCSFN. The Executive Director of PCSFN will be a Senior Advisor to ODPHP and report to the Deputy Assistant Secretary for Health for Operations.

• Office of Disease Prevention and Health Promotion

○ Office of the President's Council on Sports, Fitness, and Nutrition

Under Part C, Section C-E, Organization and Function, make the following changes:

• Retitle all references to the function of the Office of the President's Council on Sports, Fitness, and Nutrition (ACE) to the Office of the President's Council on Sports, Fitness, and Nutrition (ACL).

• Delete all references to the organizational structure of the Office of the President's Council on Sports, Fitness, and Nutrition (ACE) and replace with: The Office of the President's Council on Sports, Fitness, and Nutrition (ACL) is headed by the Executive Director of the PCSFN. The Executive Director of PCSFN will be a Senior Advisor to ODPHP and report to the Deputy Assistant Secretary for Health for Operations.

II. Delegations of Authority: All delegations and re-delegations of authority made to officials and employees of affected organizational components will continue in them or their successors pending further redelegation, if allowed, provided they are consistent with this reorganization.

(Authority: 44 U.S.C. 3101)

Alex M. Azar II,
Secretary.

[FR Doc. 2019-07125 Filed 4-10-19; 4:15 pm]

BILLING CODE 4150-32-P